DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 76 FR 47189-47190, dated August 4, 2011) is amended to reflect the reorganization of the Center for Global Health, Centers for Disease Control and Prevention.

Section C-B, Organization and Functions, is hereby amended as follows: After the title and functional statements for the Division of Global Disease Detection and Emergency Response (CWJ), insert the following:

Global Immunization Division (CWK). The Global Immunization Division (GID) protects the health of Americans and global citizens by preventing disease, disability, and death worldwide from vaccine-preventable diseases. In carrying out its mission, GID: (1) Provides national leadership and coordination of the CGH efforts to eradicate polio, control or eliminate measles, strengthen routine immunization programs, introduce new and under-utilized vaccines, and promote safe injection practices, in collaboration with international organizations and CDC Centers/Institute/Offices; (2) provides short- and long-term consultation and technical assistance to the WHO, UNICEF, and foreign countries involved in global immunization activities and participates in international advisory group meetings on immunization issues; (3) administers grants to WHO, Pan American Health Organization (PAHO), UNICEF, and other international partners as appropriate for the provision of technical, programmatic, and laboratory support, and vaccine procurement for initiatives to support global immunization targets; (4) designs and participates in international research, monitoring, and evaluation projects to increase the effectiveness of immunization strategies as may be developed; (5) develops strategies to improve the technical skills and problem-solving abilities of program managers and health care workers in other countries; (6) refines strategies developed for the eradication or control of vaccine-preventable diseases in the Western Hemisphere for implementation in other parts of the world; (7) assists other countries, WHO, and other partners to improve surveillance for polio, measles, and other vaccine preventable diseases (VPDs); (8) prepares articles based on findings for publication in international professional journals and presentation at international conferences; (9) collaborates with other countries, WHO, UNICEF, and advocacy groups to ensure the availability of sufficient funds to purchase an adequate supply of polio, measles, and other vaccines, and funds for technical support for use in eradication and control efforts; and (10) provides technical and operational leadership for CDC's activities in support of the immunization initiatives such as Global Alliance for Vaccines and Immunization and the Global Immunization Vision and Strategies.

Office of the Director (CWK1). (1) Provides leadership, management, and oversight for all division activities; (2) provides coordination of budgeting and liaison with CGH, and FMO on budget and spending; (3) provides coordination and oversight of the division's personnel actions including liaison with CGH and CDC's human resource office; (4) develops and promotes partnerships with other organizations to support global immunization activities; (5) liaises and coordinates with other CDC offices engaged in global immunization activities; (6) provides coordination and oversight of division research and scientific publications, and liaison with other CDC offices involved in scientific oversight; (7) provides coordination of the division communications activities including liaison with other CDC communications offices and those of our partner agencies; (8) represents CDC, CGH, and the division at global and national meetings and other fora for global immunization activities; and (9) provides oversight for all Embassy/International Cooperative Administrative Supportive Services costs for the division's field staff.

Vaccine Preventable Disease Eradication and Elimination Branch (CWKB). (1) Plans, coordinates, and directs, in collaboration with partners, technical and programmatic activities to eradicate or eliminate/control targeted VPDS; (2) participates in developing and implements improvements to immunization services, surveillance, monitoring, evaluation, and data management program elements for targeted diseases; (3) manages teams that coordinate regional activities and provide guidance and support to the Vaccine Preventable Disease Eradication and Elimination Branch (VPDEEB) staff assigned in the European Region, Eastern Mediterranean Region, African Region, South East Asia Region, and Western Pacific Region WHO regions; (4) participates in multilateral collaborations with an extensive array of CDC and external partners engaged in VPD eradication and elimination including: participating countries, other CDC organizations, other U.S. Government organizations, international organizations including WHO, the United Nations Foundation, UNICEF, and the World Bank; nongovernmental, private sector organizations and vaccine producers, and international advisory committees; (5) provides subject-matter expertise, short- and long-term consultations, and coordinates epidemiology, surveillance, and laboratory activities for programs to eradicate and eliminate VPDs; (6) participates in operation research, monitoring and evaluation projects and studies to improve VPD eradication and control programs and prepares articles based on findings for publication in international professional journals and presentation at international conferences; (7) assists with outbreak investigations and emergency response activities; (8) provides technical management for grants and cooperatives agreements for vaccine procurement and for provision of technical, programmatic, and laboratory support.

Strengthening Immunization Systems Branch (CWKC). (1) Develops and brings to routine operational level, in collaboration with partners, programs to deliver established, newly available, or under-utilized vaccines for diseases of global importance; (2) assesses the impact of immunization service delivery through surveillance, monitoring of vaccine coverage, and operations research; (3) develops, evaluates, and recommends improvements to strengthen routine immunization programs, including those related to laboratory-based and integrated surveillance systems; immunization coverage, economic evaluations and post-introduction evaluations; (4) provides subject-matter expertise and short- and long-term consultations; (5) participates in multilateral collaborations with an extensive array of CDC and external partners engaged in delivery of routine services, surveillance, and coverage monitoring of VPDs including: participating countries, other CDC organizations, other U.S. Government organizations, international organizations including WHO, the United Nations Foundation, UNICEF, and the World Bank; non-governmental, private sector organizations and vaccine producers, and international advisory committees; (6) assists partner countries to build capacity in the areas of service delivery, surveillance, health information systems, data management, laboratory services and surveillance, and decision-making to achieve effective, efficient, and sustainable immunization programs; (7) manages and provides guidance and support for the GID PAHO team that coordinates PAHO regional activities; (8) evaluates, in collaboration with partners, projects that integrate non-vaccine interventions with routine immunization programs; (9) designs and participates in research, monitoring and evaluation projects and studies to improve existing and newly developing VPD control and eradication programs and prepares articles based on findings for publication in international professional journals and presentation at international conferences; (10) assists with outbreak investigations and emergency response activities.

Delete in its entirety the functional statements for the Global Immunization Division (CVGC) within the National Center for Immunization and Respiratory Diseases (CVG).

Dated: August 3, 2011.
Carlton Duncan,
Acting Chief Operating Officer, Centers for Disease Control and Prevention.

[FR Doc. 2011-20355 Filed 8-11-11; 8:45 am]

BILLING CODE 4160-18-M